DEPARTMENT OF AGRICULTURE

Forest Service

Lynn Canal Icy Strait Resource Advisory Committee

AGENCY: Forest Service, USDA.

ACTION: Notice of meeting and new project submissions.

SUMMARY: The Lynn Canal Icy Strait Resource Advisory Committee (RAC) will meet by telephone conference. The RAC is authorized under the Secure Rural Schools and Community Self-Determination Act (the Act) and operates in compliance with the Federal Advisory Committee Act. The purpose of the RAC is to improve collaborative relationships and to provide advice and recommendations to the Forest Service concerning projects and funding consistent with Title II of the Act.

DATES: The meeting will be held on Tuesday, January 14, 2020 at 4:00 p.m. by phone conference, 888-844-9904, access code 6214820#. Written comments may be submitted as described under Supplementary Information. All comments, including names and addresses when provided, are placed in the record and are available for public inspection and copying. The public may inspect comments received at the Admiralty Island National Monument Ranger District, 8510 Mendenhall Loop Road, Juneau, Alaska 99801. Please call ahead at 907-789-6212 to facilitate entry into the building.

FOR FURTHER INFORMATION CONTACT: Robin Hasselquist, RAC Coordinator, by phone at 907-789-6212 or via email at robin.hasselquist@usda.gov. RAC information can be found at the following website: http://www.fs.usda.gov/main/pts/specialprojects/racweb.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

(1) Approve previous minutes;

(2) Summarize status of previously approved and funded projects;

(3) Discuss any new projects for which project submission forms have been completed by the deadline of December 27, 2020 and provided in the pre-work package; and

(4) Following the public meeting: Vote on projects to move forward for funding approval.

The agenda will include time for people to make oral statement of three minutes or less. Individuals wishing to make an oral statement should request in writing by Tuesday, January 7, 2020, to be scheduled on the agenda. Anyone who would like to bring related matters to the attention of the committee may file written statements with the committee staff before or after the meeting. Written comments and requests for time for oral comments must be sent by January 7, 2020 to Robin Hasselquist, RAC Coordinator, 8510 Mendenhall Loop Road, Juneau, Alaska 99801 or by email to robin.hasselquist@usda.gov, or via facsimile 907-586-8808. The agenda will also include time for people to describe new projects that they submitted via a completed project submission form due via email by December 27, 2019 to robin.hasselquist@usda.gov or via facsimile 907-586-8808. To receive a copy of the project submission form please contact Robin Hasselquist. Project statements will be limited to three minutes.

Dated: December 27, 2019.
Ann Goode,
Acting Director, Office of Regulatory and Management Services, USDA Forest Service.

[FR Doc. 2019-28351 Filed 1-2-20; 8:45 am]

BILLING CODE 3411-15-P